DEPARTMENT OF COMMERCE

National Oceanic and Atmospheric Administration

50 CFR Part 648

[Docket No. 021101264-3016-02; I.D. 032503A]

RIN 0648 AQ33

Fisheries of the Northeastern United States; Atlantic Herring Fishery; 2003 Atlantic Herring Specifications; Clarification and Correction

AGENCY: National Marine Fisheries Service (NMFS), National Oceanic and Atmospheric Administration (NOAA), Commerce.

ACTION: Notification and Clarification of Seasonal Allocation for Area 1A for Atlantic Herring Specifications; correction.

SUMMARY: Pursuant to the Magnuson-Stevens Fishery Conservation and Management Act, NMFS clarifies the measures in the final rule implementing the final specifications for the 2003 Atlantic herring fishery. In that final rule, NMFS listed the 2003 total allowable catch (TAC) of Atlantic herring for Area 1A. However, the two seasonal TACs for the area were inadvertently omitted. The intent of this notification is to announce the 2003 seasonal allocation of Atlantic herring in Area 1A and correct the Table reflecting the 2003 Atlantic Herring Specifications published in the Federal Register on February 6, 2003.

DATES: The Atlantic herring specifications for fishing year 2003 published February 6, 2003 (68 FR 6088) are corrected, effective April 4, 2003, through December 31, 2003.

FOR FURTHER INFORMATION CONTACT: Paul H. Jones, Fishery Policy Analyst, 978-281-9273, fax 978-281-9135, e-mail paul.h.jones@noaa.gov.

SUPPLEMENTARY INFORMATION:

Need for Correction/Clarification

Final specifications for the 2003 Atlantic herring fishery were published on February 6, 2003 (68 FR 6088). In the rule, the preamble contained a table showing the Area TACs for the 2003 Atlantic herring fishery. However, the table inadvertently omitted the listing of the Area 1A TAC into two seasonal quotas. The final rule implementing Framework 1 to the Atlantic Herring Fishery Management Plan required annual specification of herring quotas into two seasonal fishing periods for Management Area 1A (January - May, and June - December). In the preamble of both the proposed specifications for the 2003 Atlantic herring fishery, published on November 15, 2002 (67 FR 69181), and the final specifications, the rules stated that there were only two changes from the specifications approved by NMFS for the 2002 fishery: A transfer of 10,000 mt from the Area 2 TAC reserve to the Area 3 TAC, resulting in an Area 3 TAC of 60,000 mt and an Area 2 TAC reserve of 70,000 mt; and a restriction on U.S. at-sea processing vessels to fish in Areas 2 and 3, only. Omitting the two seasonal quotas for Area 1A was not a change from the 2002 specifications.

Accordingly, in rule, FR Doc. 03-2798 published on February 6, 2003, on page 6089, in the first and second columns, the final specifications for the 2003 Atlantic herring fishery are corrected to read as follows, with specific reference to the seasonal quota allocation for Area 1A:

Final Specifications and Area TACs for the 2003 Atlantic Herring Fishery
Specification | Final Allocation (mt)
ABC | 300,000
OY | 250,000
DAH | 250,000
DAP | 226,000
JVPt | 20,000
JVP | 10,000 (Area 2 and 3 only)
IWP | 10,000
USAP | 20,000 (Area 2 and 3 only)
BT | 4,000
TALFF | 0
Reserve | 0
TAC-Area 1A | 60,000 January 1, 2003-May 31, 2003, landings cannot exceed 6,000
TAC-Area 1B | 10,000
TAC-Area 2 | 50,000 (TAC reserve: 70,000)
TAC-Area 3 | 60,000

This action is being taken pursuant to 50 CFR 648.200 and 648.202.

Authority: 16 U.S.C. 1801 et seq.

Dated: April 1, 2003.
John Oliver,
Deputy Assistant Administrator for Operations, National Marine Fisheries Service.

[FR Doc. 03-8396 Filed 4-4-03; 8:45 am]

BILLING CODE 3510-22-S